DEPARTMENT OF ENERGY

International Energy Agency Meeting

AGENCY: Department of Energy (DOE).

ACTION: Notice of meeting.

SUMMARY: The Industry Advisory Board (IAB) to the International Energy Agency (IEA) will meet on June 20, 2006, at the headquarters of the IEA in Paris, France, in connection with a meeting of the IEA's Standing Group on Emergency Questions.

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held at the headquarters of the IEA, 9, rue de la Fédération, Paris, France, on June 20, 2006, beginning at 8:30 a.m. The purpose of this notice is to permit attendance by representatives of U.S. company members of the IAB at a meeting of the IEA's Standing Group on Emergency Questions (SEQ), which is scheduled to be held at the IEA on June 20 beginning at 9:30 a.m., including a preparatory encounter among company representatives from approximately 8:30 a.m. to 9 a.m. The agenda for the preparatory encounter is a review of the agenda for the SEQ meeting.

The agenda for the SEQ meeting is under the control of the SEQ. It is expected that the SEQ will adopt the following agenda:

1. Adoption of the Agenda

2. Approval of the Summary Record of the 116th Meeting

3. Status of Compliance with IEP Stockholding Commitments

—Reports by Non-Complying Member Countries

4. Program of Work

—The SEQ Program of Work for 2007-2008

5. The Current Oil Market Situation, including Geopolitical Risks in the Oil Market

—Near-Term Risks to the Oil Market

6. Emergency Response Review Program

—Emergency Response Review (ERR) of Spain

—ERR of the United States

—ERR of Canada

—Preliminary Results of ERR of Turkey

—Preliminary Results of ERR of the Czech Republic

7. Report on Current Activities of the IAB

8. The IEA Collective Action Agreed on September 2, 2005, in Response to Disrupted Oil Supplies

—Roundtable on Follow-Up Measures in Administrations

9. Demand Restraint Measures

—Review of Policies and Analytical Requirements to Assess Oil Demand Restraint for Heavy Goods Vehicles

10. Policy and Other Developments in Member Countries

—Belgium

—Japan

—United States

11. Other Emergency Response Activities

—Report on SEQ Working Group on IEA Emergency Reserve Calculation Methodology

—Reports on IEA Workshops on Gas Security and Gas Statistics

12. Activities with Non-Member Countries and International Organizations

—Voluntary Contribution of the United Kingdom

—Update on Situation of Applicant Countries

—NMC Activities Related to Emergency Preparedness

—International Energy Forum

—G8

—Workshops on Oil Security in China, Thailand, and India

13. Documents for Information

—Emergency Reserve Situation of IEA Member Countries on April 1, 2006

—Emergency Reserve Situation of IEA Candidate Countries on April 1, 2006

—Base Period Final Consumption: 2Q2005-1Q2006

—Monthly Oil Statistics: March 2006

—Update of Emergency Contacts List

14. Other Business

—Dates of Next SEQ Meetings (tentative)

—November 16-17, 2006

—March 20-22, 2007

—June 18-19, 2007

—November 13-15, 2007

As provided in section 252(c)(1)(A)(ii) of the Energy Policy and Conservation Act (42 U.S.C. 6272(c)(1)(A)(ii)), the meetings of the IAB are open to representatives of members of the IAB and their counsel; representatives of members of the IEA's Standing Group on Emergency Questions; representatives of the Departments of Energy, Justice, and State, the Federal Trade Commission, the General Accounting Office, Committees of Congress, the IEA, and the European Commission; and invitees of the IAB, the SEQ, or the IEA.

Issued in Washington, DC, June 2, 2006.
Samuel M. Bradley,
Assistant General Counsel for International and National Security Programs.

[FR Doc. E6-9216 Filed 6-12-06; 8:45 am]

BILLING CODE 6450-01-P